DEPARTMENT OF ENERGY

Federal Energy Regulatory Commission

[Docket No. CP23-542-000]

Golden Triangle Storage, L.L.C.; Notice of Schedule for the Preparation of an Environmental Assessment for the Golden Triangle Storage Expansion Project

On September 12, 2023, Golden Triangle Storage, L.L.C. (GTS) filed an application in Docket No. CP23-542-000 requesting a Certificate of Public Convenience and Necessity pursuant to section 7(c) of the Natural Gas Act to construct and operate certain natural gas storage facilities. The proposed project is known as the Golden Triangle Storage Expansion Project (Project) and would authorize GTS to construct additional storage caverns, compressor units, and appurtenant facilities at its existing storage facility in Jefferson County, Texas. According to GTS, the Project would add approximately 14.4 billion cubic feet of new natural gas storage capacity to meet market demand in the Gulf Coast Region and enhance operational capabilities at the existing storage facilities.

On September 20, 2023, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—February 1, 2024

90-day Federal Authorization Decision Deadline ²—May 1, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

GTS proposes to construct and operate two underground salt dome natural gas storage caverns at its existing storage site, six additional 5,500 horsepower compressor units at its existing compressor station, a new brine disposal well and brine pipeline, and appurtenant facilities, in Jefferson County, Texas. Construction of the proposed facilities would temporarily disturb about 31 acres of land. Following construction, GTS would maintain about 5.2 acres of land for permanent operation of the Project's facilities; the remaining acreage would be restored and revert to former uses.

Background

On September 21, 2023, the Commission issued a Notice of Scoping Period Requesting Comments on Environmental Issues for the Proposed Golden Triangle Storage Expansion Project (Notice of Scoping). The Notice of Scoping was sent to affected landowners; Federal, State, and local government agencies; elected officials; environmental and public interest groups; Native American Tribes; other interested parties; and local libraries and newspapers. In response to the Notice of Scoping, the Commission received comments from the Texas Parks and Wildlife Department, the Sierra Club, and U.S. Environmental Protection Agency. The primary issues raised by the commentors are construction procedures, flood risks, effects on threatened and endangered species, water quality, air quality, hazardous waste management, and impacts to environmental justice communities. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-542), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 7, 2023.
Kimberly D. Bose,
Secretary.

[FR Doc. 2023-25039 Filed 11-13-23; 8:45 am]

BILLING CODE 6717-01-P